DEPARTMENT OF COMMERCE

International Trade Administration

[C-570-011]

Certain Crystalline Silicon Photovoltaic Products From the People's Republic of China: Final Results of the Expedited Sunset Review of the Countervailing Duty Order

AGENCY: Enforcement and Compliance, International Trade Administration, Department of Commerce.

SUMMARY: As a result of this expedited sunset review, the Department of Commerce (Commerce) finds that revocation of the countervailing duty order on Certain Crystalline Silicon Photovoltaic Products (certain solar products) from the People's Republic of China (China) would be likely to lead to continuation or recurrence of countervailable subsidies as indicated in the “Final Results of Sunset Review” section of this notice.

DATES: Applicable May 6, 2020.

FOR FURTHER INFORMATION CONTACT: Kathryn Turlo, AD/CVD Operations, Office VII, Enforcement and Compliance, International Trade Administration, U.S. Department of Commerce, 1401 Constitution Avenue NW, Washington, DC 20230; telephone: (202) 482-3870.

SUPPLEMENTARY INFORMATION:

Background

On February 18, 2015, Commerce published its CVD order on certain solar products from China in the Federal Register.¹ On January 2, 2020, Commerce initiated the first sunset review of the countervailing duty order covering certain solar products from China, pursuant to section 751(c) of the Tariff Act of 1930, as amended (the Act).² Commerce received notices of intent to participate in this sunset review from SunPower Manufacturing Oregon, LLC (SunPower) and Hanwha Q CELLS USA, Inc. (Q Cells) (collectively, the domestic interested parties), within the 15-day period specified in 19 CFR 351.218(d)(1)(i).³ The domestic interested parties claimed interested party status under section 771(9)(C) of the Act, as producers of certain solar products.

¹ See Certain Crystalline Silicon Photovoltaic Products from the People's Republic of China: Antidumping Duty Order; and Amended Final Affirmative Countervailing Duty Determination and Countervailing Duty Order, 80 FR 8592 (February 18, 2015) (Order).

² See Initiation of Five-Year (Sunset) Reviews, 85 FR 67 (January 2, 2020) (Notice of Initiation).

³ See SunPower's Letter, “Crystalline Silicon Photovoltaic Products from China and Taiwan: Intent to Participate in Sunset Reviews,” dated January 13, 2020; see also Q Cells' Letter, “Crystalline Silicon Photovoltaic Products from People Republic of China and Taiwan: Hanwha Q CELLS USA, Inc.'s Notice of Intent to Participate in Sunset Reviews,” dated January 17, 2020.

Commerce received adequate substantive responses to the Notice of Initiation from the domestic interested parties within the 30-day period specified in 19 CFR 351.218(d)(3)(i).⁴ On February 25, 2020, Commerce notified the U.S. International Trade Commission (ITC) that it did not receive a substantive response from respondent interested parties.⁵ In accordance with section 751(c)(3)(B) of the Act and 19 CFR 351.218(e)(1)(ii)(C)(2), Commerce conducted an expedited (120-day) sunset review of the Order on certain solar products from China.

⁴ See SunPower's Letter, “Crystalline Silicon Photovoltaic Products from China and Taiwan Sunset Reviews: Substantive Response of SPMOR,” dated February 3, 2020; see also Q Cells' Letter, “Certain Crystalline Silicon Photovoltaic Products from China and Taiwan, Inv. Nos. 701-TA-511 and 731-TA-1246 and 1247 (1st Sunset Review); Hanwha Q CELLS USA, Inc.'s Substantive,” dated February 3, 2020.

⁵ See Commerce's Letter, “Sunset Review Initiated on January 2, 2020,” dated February 25, 2020.

Scope of the Order

The products covered by the Order is certain solar products, which are currently classifiable in the Harmonized Tariff Schedule of the United States (HTSUS) under item numbers 8501.61.0000, 8507.20.8030, 8507.20.8040, 8507.20.8060, 8507.20.8090, 8541.40.6020, 8541.40.6030 and 8501.31.8000. A full description of the scope of the Order is contained in the accompanying Issues and Decision Memorandum.⁶

⁶ See Memorandum, “Issues and Decision Memorandum for the Final Results of the First Expedited Sunset Review of the Antidumping Duty Orders on Certain Crystalline Silicon Photovoltaic Products from the People's Republic of China,” dated concurrently with this notice (Issues and Decision Memorandum).

Analysis of Comments Received

All issues raised in this review are addressed in the Issues and Decision Memorandum, including the likelihood of continuation or recurrence of countervailable subsidies and the net countervailable subsidy likely to prevail if the Order were revoked. Parties can find a complete discussion of all issues raised in this review and the corresponding recommendations in this public memorandum, which is on file electronically via Enforcement and Compliance's Antidumping and Countervailing Duty Centralized Electronic Services System (ACCESS). ACCESS is available to registered users at http://access.trade.gov. In addition, a complete version of the Issues and Decision Memorandum can be accessed directly at https://enforcement.trade.gov/frn/index.html. A list of the issues discussed in the decision memorandum is attached at the Appendix to this notice. The signed and electronic versions of the Issues and Decision Memorandum are identical in content.

Final Results of Sunset Review

Pursuant to sections 751(c)(1) and 752(b) of the Act, Commerce determines that revocation of the countervailing duty Order on certain solar products from China would be likely to lead to continuation or recurrence of countervailable subsidies at the following rates: 27.65 percent for Wuxi Suntech Power Co., Ltd. (Wuxi Suntech); 33.50 percent for Changzhou Trina Solar Energy Co., Ltd. (Trina Solar); and 33.58 percent for all others.

Administrative Protective Order

This notice serves as the only reminder to parties subject to administrative protective order (APO) of their responsibility concerning the disposition of proprietary information disclosed under APO in accordance with 19 CFR 351.305. Timely written notification of the destruction of APO materials or conversion to judicial protective order is hereby requested. Failure to comply with the regulations and terms of an APO is a violation which is subject to sanction.

Notification to Interested Parties

Commerce is issuing and publishing the final results and notice in accordance with sections 751(c), 752(b), and 777(i)(1) of the Act and 19 CFR 351.218.

Dated: May 1, 2020.
Joseph A. Laroski Jr.,
Deputy Assistant Secretary for Policy and Negotiations.

Appendix

List of Topics Discussed in the Final Decision Memorandum

I. Summary

II. Background

III. Scope of the Order

IV. History of the Order

V. Legal Framework

VI. Discussion of the Issues

VII. Final Results of Sunset Review

VIII. Recommendation

[FR Doc. 2020-09669 Filed 5-5-20; 8:45 am]

BILLING CODE 3510-DS-P